ENVIRONMENTAL PROTECTION AGENCY

40 CFR Part 52

[EPA-R01-OAR-2014-0243; A-1-FRL-9913-08-Region 1]

Approval and Promulgation of Air Quality Implementation Plans; Maine; Volatile Organic Compound Regulations

AGENCY: Environmental Protection Agency (EPA).

ACTION: Proposed rule.

SUMMARY: The Environmental Protection Agency (EPA) is proposing to approve four State Implementation Plan (SIP) revisions submitted by the State of Maine. These revisions establish Reasonably Available Control Technology (RACT) for two categories of volatile organic compound (VOC) sources and revise two existing VOC RACT regulations previously approved into Maine's SIP. The intended effect of this action is to propose approval of the requirements of the four submittals into the Maine SIP. This action is being taken under the Clean Air Act.

DATES: Written comments must be received on or before September 8, 2014.

ADDRESSES: Submit your comments, identified by Docket ID Number EPA-R01-OAR-2014-0243 by one of the following methods:

1. www.regulations.gov: Follow the on-line instructions for submitting comments.

2. Email: arnold.anne@epa.gov

3. Fax: (617) 918-0047.

4. Mail: “Docket Identification Number EPA-R01-OAR-2014-0243,” Anne Arnold, U.S. Environmental Protection Agency, EPA New England Regional Office, Office of Ecosystem Protection, Air Quality Planning Unit, 5 Post Office Square—Suite 100, (Mail code OEP05-2), Boston, MA 02109-3912.

5. Hand Delivery or Courier. Deliver your comments to: Anne Arnold, Manager, Air Quality Planning Unit, U.S. Environmental Protection Agency, EPA New England Regional Office, Office of Ecosystem Protection, Air Quality Planning Unit, 5 Post Office Square—Suite 100, (mail code OEP05-2), Boston, MA 02109-3912. Such deliveries are only accepted during the Regional Office's normal hours of operation. The Regional Office's official hours of business are Monday through Friday, 8:30 a.m. to 4:30 p.m., excluding legal holidays.

Instructions: Direct your comments to Docket ID No. EPA-R01-OAR-2014-0243. EPA's policy is that all comments received will be included in the public docket without change and may be made available online at www.regulations.gov, including any personal information provided, unless the comment includes information claimed to be Confidential Business Information (CBI) or other information whose disclosure is restricted by statute. Do not submit through www.regulations.gov, or email, information that you consider to be CBI or otherwise protected. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at Office of Ecosystem Protection, U.S. Environmental Protection Agency, EPA New England Regional Office, Office of Ecosystem Protection, Air Quality Planning Unit, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays.

In addition, copies of the state's submittals are also available for public inspection during normal business hours, by appointment at the State Air Agency: Bureau of Air Quality Control, Department of Environmental Protection, First Floor of the Tyson Building, Augusta Mental Health Institute Complex, Augusta, ME 04333-0017.

FOR FURTHER INFORMATION CONTACT: Anne K. McWilliams, Air Quality Planning Unit, U.S. Environmental Protection Agency, New England Regional Office, 5 Post Office Square—Suite 100, (Mail code OEP05-2), Boston, MA 02109-3912, telephone (617) 918-1697, facsimile (617) 918-0697, email mcwilliams.anne@epa.gov.

SUPPLEMENTARY INFORMATION: Throughout this document whenever “we,” “us,” or “our” is used, we mean EPA.

Organization of this document. The following outline is provided to aid in locating information in this preamble.

I. Background and Purpose

II. What is included in Maine's submittals?

III. What is EPA's evaluation of Maine's submittals?

A. Chapter 159, Control of Volatile Organic Compounds From Adhesives and Sealants

B. Chapter 154, Control of Volatile Organic Compounds From Flexible Package Printing

C. Chapter 111, Petroleum Liquid Storage Vapor Controls

D. Chapter 112, Bulk Terminal Petroleum Liquid Transfer Requirements

IV. Proposed Action

V. Statutory and Executive Order Reviews

I. Background and Purpose

In 1997, EPA revised the health-based National Ambient Air Quality Standard (NAAQS) for ozone, setting it at 0.08 parts per million (ppm) averaged over an 8-hour time frame.

On April 20, 2004, pursuant to the Federal Clean Air Act (the Act, or CAA), 42 U.S.C. 7401 et seq., EPA designated portions of the country as being in nonattainment of the 1997 8-hour ozone NAAQS (69 FR 23858). In Maine two areas were designated as nonattainment for the 1997 ozone standard: The Portland, ME ozone nonattainment area, including Sagadahoc County and portions of York, Cumberland and Androscoggin Counties; and the Hancock, Knox, Lincoln and Waldo Cos. (Counties) ME ozone nonattainment area. The remainder of the State was designated as unclassifiable/attainment. The Portland, ME and Hancock, Knox, Lincoln and Waldo Cos., ME ozone nonattainment areas were subsequently redesignated to attainment effective January 10, 2007. See 71 FR 71489, December 11, 2006.

On March 27, 2008 (73 FR 16436), EPA issued a new 0.075 ppm 8-hour ozone NAAQS. Effective July 20, 2012 (77 FR 30088), EPA designated areas with respect to the 2008 ozone NAAQS. The entire state of Maine was designated unclassifiable/attainment for the 2008 ozone NAAQS.

Maine is part of the Ozone Transport Region (OTR) under Section 184(a) of the CAA. Sections 182(b)(2) and 184 of the CAA compel states with moderate and above ozone nonattainment areas, as well as areas in the OTR, respectively, to, among other things, submit a SIP revision requiring the implementation of RACT for all sources of VOC covered by a Control Techniques Guideline (CTG) issued by EPA and for all major sources of VOC. A CTG is a document which establishes a “presumptive norm” for RACT for a specific VOC source category.

II. What is included in Maine's Submittals?

On June 20, 2014 and October 26, 2011, the Maine Department of Environmental Protection (herein “ME DEP”) submitted revisions to its SIP containing new regulations to address two of EPA's CTG categories, Chapter 159 Control of Volatile Organic Compounds from Adhesives and Sealants (herein “Chapter 159”) and Chapter 154 Control of Volatile Organic Compounds from Flexible Package Printing (herein “Chapter 154”), respectively.

In addition, on October 13, 1999, ME DEP submitted revised Chapter 111 Petroleum Liquid Storage Vapor Controls (herein “Chapter 111”) and on February 26, 1998, revised Chapter 112 Bulk Terminal Petroleum Liquid Transfer Requirements (herein “Chapter 112”). Earlier versions of Chapters 111 and 112 had been previously approved by EPA into Maine's SIP.

III. What is EPA's evaluation of Maine's submittals?

A. Chapter 159, Control of Volatile Organic Compounds From Adhesives and Sealants

Maine's Chapter 159 applies to the sale, use, and manufacturing for use in Maine of adhesives, sealants, adhesive primer, and sealant primer used in product manufacturing, packaging, construction, and installation of metal, wood, rubber, plastic, ceramic, or fiberglass materials. However, adhesives, sealant applications, and products used for the following operations are exempt from the Chapter 159: tire repair; repair and manufacturing of undersea-based weapon systems; testing and evaluation associated with research and development; solvent welding operations for medical devices; plaque laminating operations; products or processes subject to other state rules; and low-VOC products (less than 20 grams/liter).

Pursuant to Chapter 159, on or after January 1, 2011, all applicable sources are required to either limit VOC emissions through the use of adhesives, sealants, and adhesive and sealant primers which meet specified VOC limits or the use of add-on control equipment with an overall control efficiency of 85%, with the exception of roofing adhesives and sealants which have a compliance date of on or after January 1, 2016. The regulation specifies VOC limits for aerosol adhesives, clean-up solvents, and surface preparation solvents. In addition, the new regulation specifies applications methods, as well as work practices for waste and cleaning materials, to further limit VOC emissions for industrial adhesive activities.

Maine's Chapter 159 is generally consistent with the recommendations for RACT found in EPA's CTG for Miscellaneous Industrial Adhesives (EPA-453/R-08-005, September 2008) and a model rule developed by the Ozone Transport Commission (OTC) in 2007. The exemptions contained in Chapter 159 described above are consistent with those recommended in the CTG. Although there may be minor differences in the terminology used to describe certain adhesive categories regulated in the CTG and Chapter 159, EPA is proposing to find that those differences are inconsequential due to the Maine rule's broader applicability. Maine's Chapter 159 is more comprehensive than the CTG in that it establishes VOC content limits for sealants and sealant primers (in addition to adhesives as covered by the CTG), regulates sellers and manufactures, not just appliers, of regulated adhesives, adhesive primers and sealants, and contains a VOC composite vapor pressure limit for cleaning materials. Therefore, EPA is proposing to approve Chapter 159 and to find that the rule satisfies RACT requirements for this source category.

B. Chapter 154, Control of Volatile Organic Compounds From Flexible Package Printing

Maine's Chapter 154 applies to any flexible package printing press that has the potential to emit from a dryer, prior to controls, at least 25 tons per year of VOC from the use of inks, coatings and adhesives combined. On and after January 1, 2011, flexible package printing sources subject to the rule are required to limit VOC emissions by one or more of the following techniques: use of low VOC content materials; averaging of the VOC content materials to meet low-VOC content standards; or operating add-on VOC pollution control. The rule also contains recordkeeping, testing, and reporting requirements, as well as work practices for handling VOC-containing materials. Facilities with flexible package printing presses with a potential to emit of less than 25 tons per year of VOC from the use of inks, coatings and adhesives combined are only required to comply with the rule's recordkeeping and work practice requirements. Facilities with flexible package printing presses with a potential to emit of less than 25 tons per year of VOC from the use of inks, coatings and adhesives combined and which are used solely for quality control/quality assurance and for research and development purposes, are required only to meet the rule's recordkeeping requirements.

Maine's Chapter 154 Flexible Package Printing rule is consistent with recommendations for RACT found in EPA's CTG for Flexible Package Printing (EPA-453/R-06-003, September 2006). Therefore, EPA is proposing to approve Chapter 154 and to find that Chapter 154 satisfies RACT requirements for this source category.

C. Chapter 111, Petroleum Liquid Storage Vapor Controls

Maine's Chapter 111 was originally approved into the Maine SIP on February 19, 1980 (see 45 FR 10766) and a revised version of the rule was approved by EPA on February 3, 1992 (see 57 FR 3946) as meeting RACT requirements.¹ Maine's October 13, 1999 submittal containing revised Chapter 111 decreases the petroleum storage vessel complete inspection (of cover and seal) frequency requirement from annually to once every ten years and each time the vessel is emptied and degassed, thereby reducing the overall VOC emissions from this activity.² The revised inspection schedule is consistent with the following EPA guidance document: “Model Volatile Organic Compound Rules for Reasonably Available Control Technology,” Staff Working Draft, June 1992. The revised rule was also amended to prohibit the emptying and degassing of petroleum storage vessels, for the purpose of performing a complete inspection, on days for which ME DEP has issued an ozone health advisory between June 1 and August 31 each year beginning January 1, 2004. In addition, the revised rule increases the schedule for “routine inspections” conducted through roof hatches from once every six months to once every month.

¹ EPA's February 3, 1992 rulemaking found that Maine's revised Chapters 111 and 112 met the VOC RACT “fix-up” requirements of the Clean Air Act Amendments of 1990 (Section 182(a)(2)(A)).

² The emptying of such tanks during inspections causes a release of VOCs. Therefore, minimizing the occurrence of such inspections reduces VOC emissions. For example, the EPA document “Gasoline Distribution Industry—Stage 1—Background information for Promulgated Standards” (November, 1994), notes that emptying and refilling a 150 foot diameter tank will generate approximately 7 tons of VOC emissions.

CAA section 110(l) provides that EPA shall not approve any implementation plan revision if it would interfere with any applicable requirement concerning attainment and reasonable progress, or any other applicable requirement of the CAA, i.e. the SIP submittal must demonstrate anti-backsliding. The revision to Chapter 111 reduces the VOC emissions from petroleum storage vessels. Therefore, the anti-backsliding requirements of section 110(l) have been met. For all of the reasons discussed above, EPA is proposing to approve Maine's revised Chapter 111 Petroleum Liquid Storage Vapor Controls.

D. Chapter 112, Bulk Terminal Petroleum Liquid Transfer Requirements

Maine's Chapter 112 was originally approved into the Maine SIP on February 19, 1980 (see 45 FR 10766) and several updates to the rule have also been subsequently approved by EPA. In particular, a revised version of the rule was approved by EPA on February 3, 1992 (see 57 FR 3946) as meeting RACT requirements. The most recent approval of Chapter 112 occurred on October 15, 1996 (see 61 FR 53635). As noted in that approval, Maine's Chapter 112 is generally consistent with 40 CFR Part 60 Subpart XX and the following CTG: “Control of Hydrocarbons from Tank Truck Gasoline Loading Terminals” (EPA-450/2-77-026). Maine's February 26, 1998 submittal, containing revised Chapter 112, includes a new, more stringent requirement for the following major sources of hazardous air pollutants (HAPs): (1) All existing and new bulk terminals and pipeline breakout stations that emit 10 tons/year or more of a HAP or 25 tons/year or more of a combination of HAPs; and (2) all existing and new bulk terminals and pipeline breakout stations that are located at plant sites that emit 10 tons/year or more of a HAP or 25 tons/year or more of a combination of HAPs. Emissions from a vapor collection and processing system (due to loading of gasoline cargo tanks) for major sources of HAPs are, under the revised rule, limited to 10 milligrams of total organic compound per liter of gasoline loaded, a reduction from the rule's previous limit of 35 milligrams of total organic compound per liter of gasoline loaded. The emission limit for sources that are not major sources of HAPs remains at 35 milligrams of total organic compound per liter of gasoline loaded. The revised rule also incorporates by reference the following federal maximum available control technologies (MACT) standards: “National Emission Standards for Hazardous Air Pollutants for Source Categories: Gasoline Distribution (Stage I)” at 40 CFR Part 63, Subpart R; and “National Emission Standards for Hazardous Air Pollutants Marine Tank Vessel Loading Operations” at 40 CFR Part 63, Subpart Y.

Maine's revised Chapter 112 includes a more stringent VOC limit than the previous SIP-approved version of the rule (i.e. 10 versus 35 milligrams, respectively, for major sources of HAPs). Therefore, CAA section 110(l)'s anti-backsliding requirement has been met. For all of the reasons above, EPA is proposing to approve Maine's revised Chapter 112.

IV. Proposed Action

EPA is proposing to approve and incorporate into the Maine SIP, Chapter 159, Control of Volatile Organic Compounds from Adhesives and Sealants, and Chapter 154, Control of Volatile Organic Compounds from Flexible Package Printing, as meeting RACT for the miscellaneous industrial adhesives and flexible package printing CTG categories, respectively. In addition, EPA is proposing to approve and incorporate into the Maine SIP revised Chapter 111, Petroleum Liquid Storage Vapor Controls, and revised Chapter 112, Bulk Terminal Petroleum Liquid Transfer Requirements, both of which are consistent with CAA requirements and with EPA guidance for reducing VOC emissions from petroleum liquid storage facilities and from bulk terminal petroleum liquid transfer operations, respectively.

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Intergovernmental relations, Lead, Nitrogen dioxide, Ozone, Particulate matter, Reporting and recordkeeping requirements, Sulfur oxides, Volatile organic compounds.

Authority: 42 U.S.C. 7401 et seq.

Dated: July 29, 2014.
H. Curtis Spalding,
Regional Administrator, EPA New England.

[FR Doc. 2014-18832 Filed 8-7-14; 8:45 am]

BILLING CODE 6560-50-P